DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Evaluation of the Health Care for the Homeless Respite Pilot Initiative—New

The Bureau of Primary Health Care (BPHC), HRSA, proposes to conduct an evaluation of the Health Care for the Homeless (HCH) Respite Pilot Initiative. Data will be collected from the ten HCH grantees participating in the Pilot Initiative. The evaluation will be developed and conducted by the National Health Care for the Homeless Council through a cooperative agreement with the BPHC. The focus of the evaluation will be on assessing the effect of respite services on the health of homeless people as well as looking at any differences in outcomes based on client or program characteristics. The evaluation will be conducted throughout the 3-year period of the Pilot Initiative.

The estimated response burden is as follows:

Type of respondent | Number of respondents | Response per respondents | Hours per response | Total hour burden
Client-Level Data | 10 | 200 | .25 | 500
Program Descriptive Data | 10 | 1 | .5 | 5
Total | 10 |  |  | 505

Written comments and recommendations concerning the proposed information collection should be sent within 30 days of this notice to: John Morrall, Human Resources and Housing Branch, Office of Management and Budget, New Executive Office Building, Room 10235, Washington, DC 20503.

Dated: October 7, 2002.
Jane M. Harrison,
Director, Division of Policy Review and Coordination.

[FR Doc. 02-26110 Filed 10-11-02; 8:45 am]

BILLING CODE 4165-15-P